DEPARTMENT OF ENERGY

Federal Energy Regulatory Commission

[Project No. 12779-005]

Pacific Gas and Electric Company; Notice of Environmental Site Review and Technical Meetings To Discuss Information and Monitoring Needs for a License Application for a Pilot Project

May 5, 2010.

a. Type of Application: Draft Pilot License Application.

b. Project No.: 12779-005.

c. Applicant: Pacific Gas and Electric Company.

d. Name of Project: Humboldt WaveConnect Project.

e. Location: The project would be located in the Pacific Ocean, 2.5 to 3.0 nautical miles west of Manila on Samoa Peninsula of Humboldt Bay, near Eureka, California and within California State waters.

f. Filed Pursuant to: 18 CFR 5.3 of the Commission's regulations.

g. Applicant Contact: Mr. Brian McDonald, Director—Renewable Resource Development, Pacific Gas and Electric Company, 77 Beale Street, MC B5Q-542, San Francisco, CA 94105-1814, telephone: (415) 973-2005.

h. FERC Contact: Kenneth Hogan, phone: (202) 502-8434, e-mail: Kenneth.hogan@ferc.gov.

i. Project Description: The proposed Humboldt WaveConnect Project would consist of: (1) Wave Energy Conversion devises (WEC), including multi-point catenary moorings and anchors; (2) marker buoys, navigation lights, and environmental monitoring instruments; (3) submarine electrical cables extending underground onshore to (4) land-based power conditioning equipment; (5) an aboveground transmission line and interconnection to the electrical grid; and (6) appurtenant facilities. WEC types that may be installed may include point absorber buoys, attenuator buoys, and floating oscillating water column platforms.

j. Licensing Process: On March 1, 2010, Pacific Gas and Electric Company (PG&E) filed a Notice of Intent and request for waivers of certain regulations of the Federal Energy Regulatory Commission's (Commission) Integrated Licensing Process to expedite processing of a license application for the Humboldt WaveConnect Pilot Project. PG&E expects to file a final license application for a pilot project with the Commission by February 28, 2011.

k. Notice Purpose: The purpose of this notice is to inform you of the opportunity to participate in two upcoming technical meetings and a land-based environmental site review (site review) that Commission staff in coordination with the California State Lands Commission, and PG&E will hold. The site review will allow all interested entities an opportunity to tour the specific locations of the proposed land-based facilities. The meetings are being held to discuss the proposed project, and information and monitoring needs for the final license application. The evening meeting is primarily for receiving input from the public and the daytime meeting will focus on resource agency, Indian tribes, and non-governmental organization concerns. However, we invite all interested individuals, organizations, and agencies to attend one or both of the meetings.

The times and locations of the meetings are as follows:

Daytime Meeting

Wednesday, June 9, 2010, 12 p.m.-4:30 p.m. (local time), Warfinger Building, Great Room, Eureka Public Marina, 1 Marina Way, Eureka, CA 95501.

Evening Meeting

Wednesday, June 9, 2010, 6:30 p.m.-11 p.m. (local time), Warfinger Building, Great Room, Eureka Public Marina, 1 Marina Way, Eureka, CA 95501.

For the Environmental Site Review, participants will gather at the far end of the Woodley Island Marina parking lot, 601 Startare Drive, Eureka, CA 95501, at 1 p.m. on Tuesday, June 8, 2010. Participants are responsible for their own transportation.

Anyone in need of directions may contact Ms. Briana Moseley at: (415) 391-7900, or via e-mail at: bmoseley@kearnswest.com.

To help focus discussions, Commission staff encourages participants to review PG&E's draft pilot license application and monitoring plans filed with the Commission on March 1, 2010. These materials are available for review at the Commission in the Public Reference Room or may be viewed on the Commission's Web site at http://www.ferc.gov using the “eLibrary” link. Enter the docket number p-12779-005 to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, please contact FERC Online Support.

k. Meeting Objectives: At the technical meetings, Commission staff will focus the discussion on the information gaps that need to be addressed to ensure that sufficient information exists for the Commission to make a determination on whether the proposed project meets the criteria for a pilot project and for processing a license application for a pilot project upon its filing with the Commission.

l. California Environmental Quality Act Scoping: The California State Lands Commission (CSLC) will be the Lead Agency under the California Environmental Quality Act (CEQA). Pursuant to Section 15083, Title 14, California Code of Regulations, the CSLC will utilize the two technical meetings as its public scoping meetings for the proposed Project and to receive oral or written testimony at the times and places identified above. Copies of the CSLC's Notice of Preparation (NOP) will be available on the CSLC Web page: http://www.slc.ca.gov (under “Project Updates”). Due to the time limits mandated by California State law, written comments on the CSLC's NOP must be sent to the CSLC by Monday, June 14, 2010. Please send your comments at the earliest possible date to: Steven Mindt, Staff Environmental Scientist, California State Lands Commission, 100 Howe Avenue, Suite 100-South, Sacramento, CA 95825. FAX: (916) 574-1885. E-mail: mindts@slc.ca.gov.

Additionally, please file a copy of your comments on CSLC's NOP with the Federal Energy Regulatory Commission. Your comments on the NOP may be filed electronically via the Internet (instructions are on the Commission's Web site at: http://www.ferc.gov/docs-filing/efiling.asp). For assistance, please contact FERC Online Support at FERCOnlinesupport@ferc.gov; call toll-free at (866) 208-3676; or, for TTY, contact (202) 502-8659. Although FERC strongly encourages electronic filing, your comments may also be paper-filed. To paper-file, mail an original and eight copies to: Kimberly Bose, Secretary, Federal Energy Regulatory Commission, 888 First Street, NE., Washington, DC 20426. Please put the docket number, P-12779-005 on the first page of your response.

m. Procedures: The meetings will be recorded by a stenographer and will become part of the formal record of the Commission proceeding on the project.

Kimberly D. Bose,
Secretary.

[FR Doc. 2010-11234 Filed 5-11-10; 8:45 am]

BILLING CODE 6717-01-P